DEPARTMENT OF HEALTH AND HUMAN SERVICES

Administration for Children and Families

Submission for OMB Review; ACF-800: Child Care and Development Fund (CCDF) Annual Aggregate Report (OMB #0970-0150)

AGENCY: Office of Child Care, Administration for Children and Families, HHS.

ACTION: Request for public comment.

SUMMARY: The Office of Child Care (OCC), Administration for Children and Families (ACF) is requesting a 3-year extension of the form ACF-800: CCDF Annual Aggregate Report (OMB #0970-0150, expiration 2/28/2022). There are no changes requested to the form.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. All emailed requests should be identified by the title of the information collection.

SUPPLEMENTARY INFORMATION: Description: The ACF-800 provides annual aggregate data on the children and families receiving direct child care services under CCDF, and is used by OCC to analyze and evaluate the CCDF program to the extent which state and territory lead agencies are assisting families in addressing child care needs.

Respondents: State and territory lead agencies.

Annual Burden Estimates
Instrument | Total number of respondents | Annual number of responses per respondent | Average burden hours per response | Annual burden hours
ACF-800: CCDF Annual Aggregate Report | 56 | 1 | 40 | 2,240

Estimated Total Annual Burden Hours: 2,240.

Authority: The Child Care and Development Block Grant Act (42 U.S.C. 9857 et seq.); regulations at 45 CFR 98.70 and 98.71.

Mary B. Jones,
ACF/OPRE Certifying Officer.

[FR Doc. 2022-02012 Filed 1-31-22; 8:45 am]

BILLING CODE 4184-81-P